DEPARTMENT OF THE INTERIOR

Bureau of Land Management

[LLIDI03000.L71220000.EX0000.XXXX.LVTFD0977180; IDI-33145, IDI-35728]

Notice of Availability of the Draft Environmental Impact Statement and Resource Management Plan Amendment for the Proposed Modification to the Thompson Creek Mine Plan of Operations, Section 404 Clean Water Act Permit Application, and Public Land Disposal, Custer and Bannock Counties, Idaho

AGENCY: Bureau of Land Management, Interior.

ACTION: Notice of Availability.

SUMMARY: In compliance with the National Environmental Policy Act of 1969, as amended (NEPA), and the Federal Land Policy and Management Act of 1976, as amended (FLPMA), the Bureau of Land Management (BLM), Challis Field Office, Idaho, has prepared a draft environmental impact statement (EIS) and draft resource management plan (RMP) amendment for a proposed modified mining plan of operations (MMPO) for the Thompson Creek molybdenum mine and a related Section 404 Clean Water Act (CWA) permit application and land exchange proposal. The BLM announces the availability of the draft EIS/RMP amendment and the start of the comment period for the draft EIS/RMP amendment.

DATES: To ensure comments will be considered, the BLM must receive written comments on the draft EIS/RMP amendment within 90 days following the date the Environmental Protection Agency publishes a Notice of Availability in the Federal Register. The BLM will announce future public meetings and any other public involvement activities at least 15 days in advance through public notices, media releases, and/or mailings.

ADDRESSES: You may submit comments or request your name be added to the mailing list for the project by any of these methods:

Email: BLM_ID_TCM_EIS@blm.gov;

Fax: 208-879-6219 (please reference “TCM EIS”); or

Mail: TCM EIS, Bureau of Land Management, Challis Field Office, 1151 Blue Mountain Road, Challis, ID 83226.

Copies of the draft EIS/RMP amendment are available in the BLM Challis Field Office at the address listed above from 7:45 a.m. to 4:30 p.m., Monday through Friday, except Federal holidays. Copies of the draft EIS/RMP amendment are also available at http://www.blm.gov/id/st/en/prog/nepa_register/TCM-exlx_EIS.html.

FOR FURTHER INFORMATION CONTACT: Ken Gardner, project manager, at the BLM Challis Field Office, telephone: 208-879-6210; address: 1151 Blue Mountain Road, Challis, ID 83226; email: ksgardner@blm.gov. Persons who use telecommunication devices for the deaf (TDD) may call the Federal Information Relay Service (FIRS) at 800-877-8339 to contact the above individual. The FIRS is available 24 hours a day, 7 days a week, to leave a message for the above individual. You will receive a reply during normal business hours.

SUPPLEMENTARY INFORMATION: The draft EIS analyzes the potential environmental effects of the proposed MMPO, Section 404 CWA permit, RMP amendment, and land exchange pursuant to the NEPA. In response to these proposals: (1) The BLM will decide whether to approve the portion of an MMPO involving BLM-administered land under BLM regulations at 43 CFR 3809; (2) The US Forest Service will decide whether to approve the portion of an MMPO involving National Forest System land under Forest Service regulations at 36 CFR 228, Subpart A; (3) The US Army Corps of Engineers (USACE) will decide whether to issue a permit under Section 404 of the CWA and USACE regulations at 33 CFR 320 to discharge fill materials into waters of the US; (4) The BLM will decide whether to amend the Challis Field Office 1999 RMP pursuant to Section 202 of the FLPMA and BLM regulations at 43 CFR 1600 to identify the BLM-administered land in the land exchange proposal as available for disposal (exchange or sale); and (5) The BLM will decide whether to approve a land disposal action. The cooperating agencies for the draft EIS/RMP amendment are the Forest Service, Salmon-Challis National Forest; USACE, Walla Walla District; US Environmental Protection Agency, Region 10; Idaho Department of Environmental Quality, Idaho Falls Regional Office; and Idaho Department of Lands, Eastern Idaho Supervisory Area Office.

The BLM, Forest Service, and Idaho Department of Lands each administer their respective portions of a single plan of operations for the mine. If the BLM approves the land exchange, Thompson Creek Mining Company (TCMC) would obtain title to nearly all of the BLM-administered land involved with the mine. In such case, the few mine support features (i.e., pipelines, power lines, access roads, and a pump station) remaining on BLM-administered land could continue to be authorized by a portion of the plan of operations administered by the BLM, or by grants for rights-of-ways and special use permits under the FLPMA. In the latter case, only the Forest Service and the Idaho Department of Lands would administer the plan of operations. Regardless, the BLM must issue a decision on the MMPO because any title transfer would not occur until several months after any decision approving an RMP amendment and land disposal action.

TCMC owns and operates the mine, which is 7 miles northwest of Clayton and 21 miles southwest of Challis in Custer County, Idaho. The mine has been in operation since 1981 and is authorized for approximately 3,300 acres of surface disturbance, of which approximately 2,300 acres are on private land, approximately 750 acres are on BLM-administered land, and approximately 250 acres are on National Forest System land. The current surface disturbance at the mine is approximately 2,800 acres. The MMPO would allow an approximate 10-year extension of the mine life and expansion of the waste rock and tailings storage facilities, requiring additional authorized surface disturbance on approximately 200 acres of BLM-administered land, 150 acres of National Forest System land, and 80 acres of private land.

The land exchange proposal is an offer to exchange approximately 900 acres of private lands owned by TCMC in Custer and Bannock counties for approximately 5,100 acres of selected, BLM-administered land involving the mine in Custer County, including nearly all of the BLM-administered land involved in the MMPO. The offered lands are the Broken Wing Ranch (813 acres) in Custer County and the Garden Creek property (82 acres) in Bannock County. The ranch borders several miles of the Salmon River, and the Garden Creek property contains a portion of the headwaters of Garden Creek. Public ownership of these lands would prevent their subdivision and development, enhance habitat for four threatened and endangered fish species and a variety of wildlife, and substantially increase public access to the Lyon Creek drainage in Custer County. The Challis RMP does not identify the selected land as available for disposal. Therefore, in addition to evaluating the land exchange proposal, the draft EIS also evaluates amending the RMP to identify the selected land as suitable for disposal pursuant to the FLPMA.

The BLM published the notice of intent to prepare an EIS in the Federal Register on August 3, 2010 (75 FR 45652). The BLM held public meetings in Boise, Idaho on August 23, 2010 and in Challis, Idaho on August 24, 2010. The BLM also published a notice of exchange proposal for 4 consecutive weeks in April and May 2013 in newspapers of general circulation in the counties containing the selected and offered lands. Scoping identified multiple issues for nearly all of the elements of the human environment, e.g., socio-economic factors, water resources, tribal treaty rights, etc. These issues are described in the Scoping and Alternatives report available at http://www.blm.gov/id/st/en/prog/nepa_register/TCM-exlx_EIS.html.

In response to these issues, the agencies have developed a set of MMPO alternatives and a set of independent land disposal alternatives which are described in the Scoping and Alternatives report and analyzed in the draft EIS:

Alternative M1—No Action. TCMC would complete mining and reclamation under the current mining plan of operations (Phase 7), with molybdenum mining ending in approximately 2015. Approximately 2,800 acres would be disturbed;

Alternative M2—MMPO as submitted by TCMC. TCMC would complete mining and reclamation under the proposed MMPO (Phase 8), with molybdenum mining ending in approximately 2025. The two existing waste rock storage facilities would be enlarged. Approximately 3,300 acres would be disturbed (which includes the disturbance of Alternative M1);

Alternative M3—No Name Waste Rock Facility. A variation of Alternative M2 in which TCMC would develop a new waste rock storage facility in the No Name drainage, with less waste rock placed into the two existing waste rock storage facilities. Approximately 3,400 acres would be disturbed (which includes the disturbance of Alternative M1);

Alternative L1—No Action. The BLM would not amend the RMP and the land exchange would not occur. Mining would occur according to the selected MMPO alternative. That is, the MMPO alternatives do not depend on the outcome of the land disposal alternatives; TCMC would not operate the mine any differently if the BLM-administered land in the land exchange proposal were owned by TCMC or continued to be administered by the BLM. This is the case for all of the land disposal alternatives;

Alternative L2—Land Exchange Proposal submitted by TCMC. The BLM would amend the RMP, TCMC would acquire up to approximately 5,100 acres of BLM-administered land, and the US would acquire up to approximately 900 acres of private land that would be administered by the BLM.

Alternative L3—Land Sale. The BLM would amend the RMP allowing conveyance of up to approximately 5,100 acres of BLM-administered land to TCMC via a sale at the appraised fair market value pursuant to Section 203 of the FLPMA;

Alternative L4—Reduced Area Land Exchange, Fee Simple. The BLM would amend the RMP, TCMC would acquire approximately 3,600 acres of BLM-administered land, and the US would acquire approximately 30 percent less private land by fair market value compared to Alternative L2; and

Alternative L5—Reduced Area Land Exchange, Easement. The BLM would amend the RMP and TCMC would acquire approximately 5,100 acres of BLM-administered land, but with a conservation easement on approximately 1,500 acres. The US would accordingly acquire approximately 10 percent less private land by fair market value.

The BLM and Forest Service preferred MMPO alternative is Alternative M2. The BLM preferred land disposal alternative is Alternative L2. Pursuant to the notice of intent (75 FR 45652) and this notice, the BLM is complying with the requirements in 43 CFR 1610.2 to notify the public of potential amendments to land use plans, based on the analysis in an EIS. The BLM will continue to integrate the land use planning process with the NEPA process for the EIS. The BLM will utilize and coordinate the NEPA commenting process to satisfy the public involvement for Section 106 of the National Historic Preservation Act (16 U.S.C. 470f) as provided for in 36 CFR 800.2(d)(3). The responsible officials for the proposed actions are the Field Manager, Challis Field Office, BLM (MMPO); District Manager, Idaho Falls District, BLM (land disposal); State Director, Idaho State Office, BLM (RMP amendment); Forest Supervisor, Salmon-Challis National Forest, Forest Service (MMPO); and Chief, Regulatory Division, Walla Walla District, USACE (404 Permit).

Please be aware that your entire comment—including any personal identifying information such as your address, phone number, email address, etc.—may be made publicly available at any time. While you may ask the BLM to withhold your personal identifying information from public review, we cannot guarantee that we will be able to do so.

Authority: 42 U.S.C. 4321 et seq.; 33 CFR 325.3; 43 CFR 1610.2.

Todd Kuck,
Challis Field Manager.

[FR Doc. 2014-06113 Filed 3-20-14; 8:45 am]

BILLING CODE 4310-GG-P